DEPARTMENT OF DEFENSE

Department of the Army

U.S. Army Science Board Open Meeting; Notice

AGENCY: Department of the Army, DoD.

ACTION: Notice of Federal Advisory Committee meeting.

SUMMARY: Pursuant to the Federal Advisory Committee Act, the Government in the Sunshine Act of 1976, the Department of the Army announces the following committee meeting of the U.S. Army Science Board (ASB) Summer Voting Session.

DATES: The U.S. Army Science Board Summer Voting Session will meet from 8:15 a.m.-1:45 p.m. on Thursday, July 20, 2023.

ADDRESSES: The Arnold and Mabel Beckman Center of the National Academies of Sciences and Engineering, 100 Academy Way, Irvine, CA 92617.

FOR FURTHER INFORMATION CONTACT: Army Science Board, Designated Federal Officer, 2530 Crystal Drive, Suite 7098, Arlington, VA 22202; Ms. Heather J. Gerard (Ierardi), the ASB's Designated Federal Officer (DFO), at (406) 926-9090 or email: heather.j.gerard.civ@army.mil, and Mr. Vince L. Bullard, the ASB's Alternate Designated Federal Official at (571) 215-1408 or email: vinson.l.bullard.civ@army.mil.

SUPPLEMENTARY INFORMATION: Due to circumstances beyond the control of the Designated Federal Officer, the U.S. Army Science Board was unable to provide public notification required by 41 CFR 102-3.150(a) concerning its July 20, 2023 meeting. Accordingly, the Advisory Committee Management Officer for the Department of Defense, pursuant to 41 CFR 102-3.150(b), waives the 15-calendar day notification requirement.

Purpose of Meeting: The purpose of the meeting is for ASB members to review, deliberate, and vote on the findings and recommendations presented for one Fiscal Year (FY) 2020 study, one FY2021 study, and two (FY23) ASB studies.

Agenda: The board will present findings and recommendations for deliberation and vote on the following studies:

“An lndependent Assessment of the Army's Ability to Fight and Win on a Nuclear Battlefield.” This FY21 study is classified and will be presented in a closed session at 8:15 a.m.-9:15 a.m.

“Surge Capacity in the Industrial Base.” The study team collected data marked CUI from its source and cannot disseminate the information to the public. Reasons include (but are not limited to) the passing of proprietary business information and controlled technical information. This FY23 study is controlled unclassified and will be presented in a closed session at 9:30 a.m.-10:30 a.m.

“An Independent Assessment of the Army Implementation of Digital Engineering.” This FY23 study is not classified and will be presented in an open session at 10:45 a.m.-11:45 a.m.

“An Independent Assessment of the 2040 Battlefield and its Implications for 5th Generation Combat Vehicle Technologies”. This FY20 study is not classified and will be presented in an open session at 12:45 a.m.-1:45 p.m.

Public Accessibility to the Meeting: Pursuant to 5 U.S.C. 552b, as amended, and 41 CFR 102-3.140 through 102-3.165, and subject to the availability of space, this meeting is open to the public. Registration of members of the public who wish to attend the meeting will begin at 8:30 a.m. on the day of the meeting. Seating is limited and is on a first-to-arrive basis. Attendees will be asked to provide their name, title, affiliation, and contact information to include email address and daytime telephone number at registration. Any interested person may attend the meeting, file written comments or statements with the committee, or make verbal comments from the floor during the public meeting, at the times, and in the manner, permitted by the committee, as set forth below.

Special Accommodations: The meeting venue is fully handicap accessible, with wheelchair access. Individuals requiring special accommodations to access the public meeting or seeking additional information about public access procedures, should contact Mr. Vince Bullard, the Alternate Designated Federal Official (ADFO) for the ASB, at the email addresses or telephone numbers listed in the FOR FURTHER INFORMATION CONTACT section, at least five (5) business days prior to the meeting so that appropriate arrangements can be made.

Written Comments or Statements: Pursuant to 41 CFR 102-3.105(j) and § 102-3.140(c) and 5 U.S.C. 1009(a)(3), the public or interested organizations may submit written comments or statements to the ASB about its mission and/or the topics to be addressed in this public meeting. Written comments or statements should be submitted to Mr. Vince Bullard, the ADFO of the ASB, via electronic mail, the preferred mode of submission, at the addresses listed in the FOR FURTHER INFORMATION CONTACT section in the following formats: Adobe Acrobat or Microsoft Word. The comment or statement must include the author's name, title, affiliation, address, and daytime telephone number. Written comments or statements being submitted in response to the agenda set forth in this notice must be received by the ADFO at least five (5) business days prior to the meeting so that they may be made available to the ASB for its consideration prior to the meeting. Written comments or statements received after this date may not be provided to the ASB until its next meeting. Please note that because the ASB operates under the provisions of the Federal Advisory Committee Act, as amended, all written comments will be treated as public documents and will be made available for public inspection.

James W. Satterwhite, Jr.,
Army Federal Register Liaison Officer.

[FR Doc. 2023-14791 Filed 7-11-23; 8:45 am]

BILLING CODE 5001-03-P